DEPARTMENT OF LABOR

Employment and Training Administration

[TA-W-57,129]

ADM Milling Company, Wellsburg, WV; Dismissal of Application for Reconsideration

Pursuant to 29 CFR 90.18(C) an application for administrative reconsideration was filed with the Director of the Division of Trade Adjustment Assistance for workers at ADM Milling Company, Wellsburg, West Virginia. The application contained no new substantial information which would bear importantly on the Department's determination. Therefore, dismissal of the application was issued.

TA-W-57,129; ADM Milling Company Wellsburg, West Virginia (August 24, 2005)

Signed at Washington, DC, this 26th day of August, 2005.
Timothy Sullivan,
Director, Division of Trade Adjustment Assistance.

[FR Doc. E5-4880 Filed 9-7-05; 8:45 am]

BILLING CODE 4510-30-P